DEPARTMENT OF DEFENSE

Department of the Navy

Privacy Act of 1974; System of Records

AGENCY: Department of the Navy, DoD.

ACTION: Notice to delete four Systems of Records.

SUMMARY: The Department of the Navy is deleting four systems of records in its existing inventory of record systems subject to the Privacy Act of 1974, (5 U.S.C. 552a), as amended.

DATES: This proposed action will be effective without further notice on April 21, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The Department of the Navy proposes to delete four systems of records notices from its inventory of record systems subject to the Privacy Act of 1974 (5 U.S.C. 552a), as amended. The proposed deletion is not within the purview of subsection (r) of the Privacy Act of 1974 (5 U.S.C. 552a), as amended, which requires the submission of new or altered systems reports.

Dated: March 14, 2008.
L.M. Bynum,
Alternate OSD Federal Register Liaison Officer, Department of Defense.

N04410-2

Military/Civilian Dependents Hurricane Shelter List (February 22, 1993, 58 FR 10742).

Reason:

This information is now collected under N01754-4, Navy Family Accountability and Assessment System (NFAAS) (August 16, 2007, 72 FR 46045).

N10140-1

Ration Card Records (February 22, 1993, 58 FR 10812).

Reason:

Ration Cards are no longer issued for that area. All files have been destroyed, as our offices have been closed in that area.

N10140-2

Privately-Owned Tax-free Vehicle Record Cards, Tax-free Gasoline Record Cards (February 22, 1993, 58 FR 10812).

Reason:

Program discontinued when bases were closed in this area. All files have been destroyed.

N05300-6

Armed Forces Staff College Administrative Data System (February 22, 1993, 58 FR 10752).

Reason:

This college is now called the Joint Forces Staff College and it falls under the National Defense University.

Records fall under Army systems of records notice A0351 NDU, NDU National Defense University Student Data Files.

[FR Doc. E8-5636 Filed 3-19-08; 8:45 am]

BILLING CODE 5001-06-P